DEPARTMENT OF THE INTERIOR

Bureau of Land Management

[SDM 98495]

Notice of Proposed Withdrawal and Opportunity for Public Meeting; Correction

AGENCY: Bureau of Land Management, Interior.

ACTION: Correction.

SUMMARY: In the notice published in 73 FR 49217-49218, published August 20, 2008, as FR Doc. E8-19262, make the following correction:

On page 49217, column 3, following T. 7 S., R. 3 E., Sec. 32, should read “All, except SE¼SE¼ and HES 348”.

Dated: August 25, 2008.
Cindy Staszak,
Chief, Branch of Land Resources.

[FR Doc. E8-20338 Filed 9-2-08; 8:45 am]

BILLING CODE 3410-11-P